DEPARTMENT OF HOUSING AND URBAN DEVELOPMENT

[Docket No. FR-4922-N-22]

Privacy Act of 1974; New System of Records, Personnel Security Files

AGENCY: Office of the Chief Information Officer, HUD.

ACTION: Notification of a new Privacy Act System of Records, Personnel Security Files.

SUMMARY: HUD is creating a new Privacy Act System of Records, Personnel Security Files. The records in this system of records are used to document and support decisions regarding clearance for access to classified information, the suitability, eligibility, and fitness for service of applicants for federal employment and contract positions, including students, interns, or volunteers to the extent their duties require access to federal facilities, information, systems, or applications. The records may be used to document security violations and supervisory actions taken.

DATES: Effective Date: This proposal shall become effective without further notice in 30 calendar days, October 19, 2006, unless comments are received during or before this period which would result in a contrary determination.

Comments Due Date: October 19, 2006.

ADDRESSES: Interested persons are invited to submit comments regarding this notice to the Rules Docket Clerk, Office of General Counsel, Department of Housing and Urban Development, 451 Seventh Street, SW., Room 10276, Washington, DC 20410-0500. Communications should refer to the above docket number and title. Facsimile (FAX) comments are not acceptable. A copy of each communication submitted will be available for public inspection and copying between 8 a.m. and 5 p.m. weekdays at the above address.

FOR FURTHER INFORMATION CONTACT: Jeanette Smith, Departmental Privacy Act Officer, telephone number (202) 708-2374. [This is not a toll-free number.] A telecommunications device for hearing and speech-impaired persons (TTY) is available at (800) 877-8339 (Federal Information Relay Services). [This is a toll-free number.]

SUPPLEMENTARY INFORMATION: Pursuant to the Privacy Act of 1974 (5 U.S.C. 552a), as amended, notice is given that HUD proposes to create a new Privacy Act System of Records, Personnel Security Files.

Title 5 U.S.C. 552a(e)(4) and (11) provide that the public be afforded a 30-day period in which to comment on the new record system. The new system report was submitted to the Office of Management and Budget (OMB), the Senate Committee on Governmental Affairs, and the House Committee on Governmental Reform pursuant to paragraph 4c of Appendix 1 to OMB Circular No. A-130, “Federal Responsibilities for Maintaining Records About Individuals,” July 25, 1994 (59 FR 37914).

Accordingly, this notice creates a new system of records for the Office of Administration and accompanying routine uses to be submitted and accessed in the management of the Personnel Security Files.

Dated: September 12, 2006.
Ed Dorris,
Deputy Chief Information Officer, Office of Systems Integration and Efficiency.

HUD/ADMIN-6

System Name:

Personnel Security Files.

System Location:

HUD Headquarters.

Security Classification:

Most personnel identity verification records are not classified. However, in some cases, records of certain individuals, or portions of some records, may be classified in the interest of national security.

Categories Of Individuals Covered By The System:

Individuals who require regular, ongoing access to federal facilities, information technology systems, or information classified in the interest of national security, including applicants for employment or contracts, federal employees, contractors, students, interns, volunteers, affiliates, individuals authorized to perform or use services provided in HUD facilities (e.g., Credit Union, Fitness Center, etc.), and individuals formerly in any of these positions. The system also includes individuals accused of security violations or found in violation.

Categories Of Records In The System:

Name, former names, birth date, birth place, Social Security number, home address, phone numbers, employment history, residential history, education and degrees earned, names of associates and references and their contact information, citizenship, names of relatives, birthdates and birth places of relatives, citizenship of relatives, names of relatives who work for the Federal government, criminal history, mental health history, drug use, financial information, fingerprints, summary report of investigation, results of suitability decisions, level of security clearance, date of issuance of security clearance, requests for appeal, witness statements, investigator's notes, tax return information, credit reports, security violations, circumstances of violation, and agency action taken.

Authority For Maintenance Of The System:

Depending upon the purpose of your investigation, the U.S. government is authorized to ask for this information under Executive Orders 10450, 10865, 12333, and 12356; sections 3301 and 9101 of title 5, U.S. Code; sections 2165 and 2201 of title 42, U.S. Code; sections 781 to 887 of title 50, U.S. Code; parts 5, 732, and 736 of title 5, Code of Federal Regulations; and Homeland Security Presidential Directive (HSPD) 12, Policy for a Common Identification Standard for Federal Employees and Contractors, August 21, 2004.

Forms: SF-85, SF-85P, SF-86, SF-87.

Purpose(S):

The records in this system of records are used to document and support decisions regarding the suitability, eligibility, and fitness for service of applicants for federal employment and contract positions, including long-term students, interns, or volunteers to the extent their duties require access to federal facilities, information, systems, or applications. For some positions, the records may also be used to document and support decisions regarding National Security Clearance for access to classified information. The records may be used to document security violations and supervisory actions taken.

Routine Uses Of Records Maintained In The System, Including Categories Of Users And The Purposes Of Such Uses:

1. To the Department of Justice when:

(a) The agency or any component thereof; or

(b) Any employee of the agency in his or her official capacity;

(c) Any employee of the agency in his or her individual capacity where agency or the Department of Justice has agreed to represent the employee; or

(d) The United States Government, is a party to litigation or has an interest in such litigation, and by careful review, the agency determines that the records are both relevant and necessary to the litigation and the use of such records by DOJ is therefore deemed by the agency to be for a purpose compatible with the purpose for which the agency collected the records.

2. To a court or adjudicative body in a proceeding when:

(a) The agency or any component thereof;

(b) Any employee of the agency in his or her official capacity;

(c) Any employee of the agency in his or her individual capacity where agency or the Department of Justice has agreed to represent the employee; or

(d) The United States Government, is a party to litigation or has an interest in such litigation, and by careful review, the agency determines that the records are both relevant and necessary to the litigation and the use of such records is therefore deemed by the agency to be for a purpose that is compatible with the purpose for which the agency collected the records.

3. Except as noted on Forms SF-85, 85-P, and 86, when a record on its face, or in conjunction with other records, indicates a violation of law, whether civil, criminal, or regulatory in nature, and whether arising by general statute or particular program statute, or by regulation, rule, or order issued pursuant thereto, disclosure may be made to the appropriate public authority, whether Federal, foreign, State, local, or tribal, or otherwise, enforcing or implementing the statute, or rule, regulation, or order issued pursuant thereto, if the information disclosed is relevant to any enforcement, regulatory, investigative or prosecutorial responsibility of the receiving entity.

4. To a Member of Congress or to a Congressional staff member in response to an inquiry of the Congressional office made at the written request of the constituent about whom the record is maintained.

5. To the National Archives and Records Administration or to the General Services Administration for records management inspections conducted under 44 U.S.C. 2904 and 2906.

6. To HUD contractors, grantees, or volunteers who have been engaged to assist the agency in the performance of a contract service, grant, cooperative agreement, or other activity related to this system of records and who need to have access to the records in order to perform their activity. Recipients shall be required to comply with the requirements of the Privacy Act of 1974, as amended, 5 U.S.C. 552a.

7. To any source or potential source from which information is requested in the course of an investigation concerning the retention of an employee or other personnel action (other than hiring), or the retention of a security clearance, contract, grant, license, or other benefit, to the extent necessary to identify the individual, inform the source of the nature and purpose of the investigation, and to identify the type of information requested.

8. To a Federal, State, local, foreign, or tribal or other public authority the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative personnel or regulatory action.

9. To the news media or the general public, factual information the disclosure of which would be in the public interest and which would not constitute an unwarranted invasion of personal privacy, consistent with Freedom of Information Act standards.

10. To a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

11. To the Office of Management and Budget when necessary to the review of private relief legislation pursuant to OMB Circular No. A-19.

Policies And Practice For Storing, Retrieving, Accessing, Retaining And Disposing Of Records In The System:

Storage:

Records are stored on paper and electronically in a secure location.

Retrievability:

Background investigation files are retrieved by name, Social Security number (SSN), or fingerprint.

Safeguards:

For paper records: Comprehensive paper records are kept in locked metal file cabinets in locked rooms in HUD Headquarters, in the Office of Security and Emergency Planning, which is the office responsible for suitability determinations. Some paper records (limited in number and scope) are kept in the HUD's Regional Human Resources in locked metal file cabinets in locked rooms. Access to the records is limited to those employees who have a need for them in the performance of their official duties.

For electronic records: Comprehensive electronic records are kept in the Office of Security and Emergency Planning. Access to the records is restricted to those with specific role in the PIV process that requires access to background investigation forms to perform their duties, and who have been given a password to access that part of the system including background investigation records. An audit trail is maintained and reviewed periodically to identify unauthorized access. Persons given roles in the PIV process must complete training specific to their roles to ensure they are knowledgeable about how to protect individually identifiable information.

Retention And Disposal:

These records are retained and disposed of in accordance with General Records Schedule 18, item 22a, approved by the National Archives and Records Administration (NARA). The records are disposed in accordance with HUD's disposal policies. Records are destroyed upon notification of death, or not later than five years after separation or transfer of employee to another agency or department, whichever is applicable.

System Manager(S) And Address:

Director, Office of Security and Emergency Planning, 451 Seventh Street, SW., Washington, DC 20410.

Notification And Record Access Procedures:

Individuals seeking to determine whether this system of records contains information about them, or those seeking access to such records, should address inquiries to the Director, Office of Security and Emergency Planning, 451 Seventh St., SW., Washington, DC 20410. Written requests must include the full name, current address, and telephone number of the individual making the request, including a description of the requester's relationship to the information in question. The System Manager will accept inquiries from individuals seeking notification of whether the system contains records pertaining to them.

Contesting Record Procedures:

The procedures for requesting amendment or correction of records appear in 24 CFR 16. If additional information or assistance is required, contact the Privacy Act Appeals Officer, Office of General Counsel, Department of Housing and Urban Development, 451 Seventh Street, SW., Washington, DC 20410

Record Source Categories:

Depending on the level of background investigation being conducted, information may be obtained from a variety of sources, including the employee, contractor, or applicant via use of the SF-85, SF-85P, or SF-86, as well as personal interviews; employers' and former employers' records; FBI criminal history records and other databases; financial institutions and credit reports; medical records and health care providers; educational institutions; interviews of witnesses such as neighbors, friends, co-workers, business associates, teachers, landlords, or family members; tax records; and other public records. Security violation information is obtained from a variety of sources, such as guard reports, security inspections, witnesses, supervisor's reports, audit reports.

Systems Exempted From Certain Provisions Of The Privacy Act:

Upon publication of a final rule in the Federal Register, this system of records will be exempt in accordance with 5 U.S.C. 552a(k)(5). Information will be withheld to the extent it identifies witnesses promised confidentiality as a condition of providing information during the course of the background investigation.

[FR Doc. E6-15492 Filed 9-18-06; 8:45 am]

BILLING CODE 4210-67-P